DEPARTMENT OF AGRICULTURE

Commodity Credit Corporation

Bulk Grain Available for Sale Online

AGENCY: Commodity Credit Corporation, USDA.

ACTION: Notice.

SUMMARY: This notice announces that the Commodity Credit Corporation (CCC) will make available for sale a portion of its grain inventory beginning November 20, 2006, via the Internet at http://www.GrainLink.com. This is the first time that CCC will use GrainLink to provide online marketing services to sell bulk grain, including wheat, rice, soybeans, barley, corn, grain sorghum, and oats that CCC owns via the Internet. This notice is to announce the sale and introduce this new process to the industry.

DATES: Effective Date: November 15, 2006.

FOR FURTHER INFORMATION CONTACT: Jose Gonzalez, Inventory Program Manager, Warehouse and Inventory Division, Farm Service Agency, USDA, STOP 0553, 1400 Independence Avenue, SW., Washington, DC 20250-0553. Telephone: (202) 690-2534. E-mail: jose.gonzalez@usda.gov. Persons with disabilities who require alternative means for communication (Braille, large print, audiotape, etc.) should contact the USDA Target Center at (202) 720-2600 (voice and TDD).

SUPPLEMENTARY INFORMATION: CCC acquires bulk grain through the forfeiture of marketing assistance loans obtained in accordance with Title 1, Subtitle B, of the Farm Security and Rural Investment Act of 2002. CCC's general sales policy is to maximize the returns to the Corporation. The authorities for selling CCC-owned grain include the CCC Charter Act and section 165 of the Federal Agriculture Improvement and Reform Act of 1996. The regulations at 7 CFR part 1402 contain CCC policy for certain commodities available for sale by CCC.

CCC has contracted with Farms Technology, LLC, of Overland Park, Kansas to provide online marketing services to sell CCC-owned bulk grain (wheat, rice, soybeans, barley, corn, grain sorghum, and oats), via an Internet based cash grain marketing platform called GrainLink.com. CCC will entertain offers from prospective buyers for the purchase of grain owned by CCC that is included in the inventory listed on GrainLink.com. Prospective buyers may also visit the DACO Web site at http://www.fsa.usda.gov/daco/default.htm to review the entire catalog of grain inventory. Under “Related Topics”, click on “Procurement and Sales” and then “Sales” to access inventories of various commodities. Parties interested in purchasing CCC-owned grain that is not available for sale via GrainLink.com may contact CCC merchandisers directly at (816) 926-3816 to discuss grain availability.

A portion of CCC's grain inventory will be available for sale at http://www.GrainLink.com beginning November 20, 2006, from 9:30 a.m. to 1:30 p.m. central daylight time (CDT). This inventory will be made available for advance review only, from 9 a.m. to 4 p.m. CDT, on November 16 and November 17, 2006. Additional CCC grain inventory may be placed on GrainLink at anytime following November 20, 2006, without prior notification to the public. Interested parties are encouraged to check the GrainLink Web site on a regular basis for inventory that may be made available for sale.

To allow access to GrainLink's “Real Time Bid Service” Farms Technology requires users to enter into a participation agreement and pay a monthly subscription fee. There are no commission charges to place bids online; however, successful bidders are charged a commission fee of $.01 per bushel (wheat, barley, oats, corn, soybeans) or $.01 per hundredweight (grain sorghum or rice) for completed sales.

Additional information on Farms Technology services is available by contacting Jason Tatge, Chief Executive Officer, by telephone at (888) 393-6471, or by e-mail at Jason@farmstech.com.

Any questions about this notice may be directed to Jose Gonzalez by calling (202) 690-2534 or e-mail jose.gonzalez@usda.gov.

Signed at Washington, DC, November 9, 2006.
Teresa C. Lasseter,
Executive Vice President, Commodity Credit Corporation.

[FR Doc. 06-9212 Filed 11-9-06; 3:40 pm]

BILLING CODE 3410-05-P